DEPARTMENT OF JUSTICE

Antitrust Division

Notice Pursuant to the National Cooperative Research and Production Act of 1993—American Institute of Steel Construction, Inc.

Notice is hereby given that, on September 20, 2004, pursuant to section 6(a) of the National Cooperative Research and Production Act of 1993, 15 U.S.C. 4301 et seq. (“the Act”), American Institute of Steel Construction, Inc. (“AISC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Institute of Steel Construction, Inc., Chicago, IL. The nature and scope of AISC's standards development activities are: to develop standards addressing the design, fabrication and erection of structural steel, including specifications for structural steel buildings, specifications for nuclear facilities, seismic provisions for structural steel buildings, standards for the qualification of steel structures inspectors, code of standard practice for structural steel fabrication and erection, and standards for steel shipment notices and bar codes.

Dorothy B. Fountain,
Deputy Director of Operations, Antitrust Division.

[FR Doc. 04-27070 Filed 12-9-04; 8:45 am]

BILLING CODE 4410-11-M